DEPARTMENT OF THE INTERIOR

Bureau of Land Management

[AA-6665-C, AA-6665-A2; AK-964-1410-KC-P]

Alaska Native Claims Selection

AGENCY: Bureau of Land Management, Interior.

ACTION: Notice of decision approving lands for conveyance.

SUMMARY: As required by 43 CFR 2650.7(d), notice is hereby given that an appealable decision approving the surface estate for conveyance pursuant to the Alaska Native Claims Settlement Act will be issued to Isanotski Corporation. The lands are in the vicinity of False Pass, Alaska, and are located in:

Seward Meridian, Alaska

T. 62 S., R. 92 W.,

Secs. 31 and 32.

Containing approximately 432 acres.

T. 63 S., R. 92 W.,

Secs. 4, 5, and 6; Secs. 9, 10, and 15; Secs. 16, 22, and 27.

Containing approximately 3,313 acres.

T. 62 S., R. 93 W.,

Secs. 35 and 36.

Containing approximately 383 acres.

T. 63 S., R. 93 W.,

Secs. 1, 9, and 10; Secs. 15 and 16.

Containing approximately 2,998 acres.

T. 60 S., R. 94 W.,

Secs. 14 to 17, inclusive.

Containing approximately 2,236 acres.

T. 62 S., R. 94 W.,

Secs. 4 to 9, inclusive.

Containing approximately 3,794 acres.

Aggregating approximately 13,156 acres.

These lands lie entirely within the boundaries of the Aleutian Islands National Wildlife Refuge, withdrawn by Executive Order 1733, now known as the Alaska Maritime National Wildlife Refuge. The subsurface estate will be reserved to the United States in the conveyance to Isanotski Corporation. Notice of the decision will also be published four times in the Anchorage Daily News.

DATES: The time limits for filing an appeal are:

1. Any party claiming a property interest which is adversely affected by the decision shall have until June 25, 2009 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Michael Bilancione,
Land Transfer Resolution Specialist,
Land Transfer Adjudication I.

[FR Doc. E9-12052 Filed 5-22-09; 8:45 am]

BILLING CODE 4310-JA-P